DEPARTMENT OF THE INTERIOR

Fish and Wildlife Service

50 CFR Part 17

[Docket No. FWS-R4-ES-2018-0062; FXES11130900000-189-FF0932000]

RIN 1018-BD02

Endangered and Threatened Wildlife and Plants; Removal of the Nashville Crayfish From the Federal List of Endangered and Threatened Wildlife

AGENCY: Fish and Wildlife Service, Interior.

ACTION: Proposed rule; reopening of comment period and announcement of public hearing.

SUMMARY: We, the U.S. Fish and Wildlife Service (Service), proposed to remove the Nashville crayfish (Orconectes shoupi) from the Federal List of Endangered and Threatened Wildlife (List). This determination is based on the best available scientific and commercial data, which indicate that the threats to the species have been eliminated or reduced to the point that the species has recovered and no longer meets the definition of an endangered species or a threatened species under the Endangered Species Act of 1973, as amended (Act). We announced a 60-day public comment period on the proposed rule, ending January 27, 2020. We now reopen the public comment period on the proposed rule to allow all interested parties additional time to comment on the proposed rule. Comments previously submitted need not be resubmitted and will be fully considered in preparation of the final rule. We also announce a public informational meeting and public hearing on the proposed rule.

DATES:

Written comments: The comment period on the proposed rule that published November 26, 2019 (84 FR 65098), is reopened. We will accept comments received or postmarked on or before October 23, 2020. Please note that comments submitted electronically using the Federal eRulemaking Portal (see ADDRESSES, below) must be received by 11:59 p.m. Eastern Time on the closing date, and comments submitted by U.S. mail must be postmarked by that date to ensure consideration.

Public informational meeting and public hearing: On October 8, 2020, we will hold a public informational meeting from 6 to 7 p.m., Central Time, followed by a public hearing from 7 to 8:30 p.m., Central Time.

ADDRESSES:

Availability of documents: You may obtain copies of the November 26, 2019, proposed rule and associated documents on the internet at http://www.regulations.gov under Docket No. FWS-R4-ES-2018-0062.

Written comments: You may submit written comments by one of the following methods:

(1) Electronically: Go to the Federal eRulemaking Portal: http://www.regulations.gov. In the Search box, enter FWS-R4-ES-2018-0062, which is the docket number for the proposed rule. Then, click on the Search button. On the resulting page, in the Search panel on the left side of the screen, under the Document Type heading, check the Proposed Rule box to locate this document. You may submit a comment by clicking on “Comment Now!” Please ensure you have found the correct document before submitting your comments. If your comments will fit in the provided comment box, please use this feature of http://www.regulations.gov, as it is most compatible with our comment review procedures. If you attach your comments as a separate document, our preferred file format is Microsoft Word. If you attach multiple comments (such as form letters), our preferred format is a spreadsheet in Microsoft Excel.

(2) By hard copy: Submit by U.S. mail to: Public Comments Processing, Attn: FWS-R4-ES-2018-0062, U.S. Fish and Wildlife Service, MS: PRB/3W, 5275 Leesburg Pike, Falls Church, VA 22041-3803.

We request that you send comments only by the methods described above. We will post all comments on http://www.regulations.gov. This generally means that we will post any personal information you provide us (see Public Comments, below, for more information).

Public informational meeting and public hearing: The public informational meeting and the public hearing will be held virtually using the Zoom platform. See Public Hearing, below, for more information.

FOR FURTHER INFORMATION CONTACT: Lee Andrews, Field Supervisor, U.S. Fish and Wildlife Service, Tennessee Ecological Services Field Office, 446 Neal Street St., Cookeville, TN 38506; telephone 931-528-6481. Persons who use a telecommunications device for the deaf (TDD) may call the Federal Relay Service at 800-877-8339.

SUPPLEMENTARY INFORMATION:

Background

On November 26, 2019, we published a proposed rule (84 FR 65098) to remove the Nashville crayfish from the List (i.e., “delist” the species). The proposed rule had a 60-day public comment period, ending January 27, 2020. During the comment period for the proposed rule, we received a request for a public hearing. We are, therefore, reopening the comment period for 30 days on our proposed rule to delist the Nashville crayfish (see DATES, above) to hold a public informational meeting and a public hearing and to allow the public an additional opportunity to provide comments on the proposed rule.

For a description of previous Federal actions concerning the Nashville crayfish, please refer to the November 26, 2019, proposed rule (84 FR 65098).

Public Comments

We will accept comments and information during this reopened comment period on our proposed rule to delist the Nashville crayfish. We will consider information and recommendations from all interested parties. We intend that any final action resulting from the proposal will be based on the best scientific and commercial data available and will be as accurate and as effective as possible. Our final determination will take into consideration all comments and any additional information we receive during all comment periods on the proposed rule. Therefore, the final decision may differ from the November 26, 2019, proposed rule (84 FR 65098), based on our review of all information we receive during the comment periods. For example, we may conclude that the species should remain listed as an endangered species instead of being removed from the List, or we may conclude that the species should be reclassified as a threatened species. Such final decisions would be a logical outgrowth of the proposal, as long as we: (a) Base the decisions on the best scientific and commercial data available after considering all of the relevant factors; (2) do not rely on factors Congress has not intended us to consider; and (3) articulate a rational connection between the facts found and the conclusions made, including why we changed our conclusion.

If you already submitted comments or information on the November 26, 2019, proposed rule (84 FR 65098), please do not resubmit them. Any such comments are incorporated as part of the public record of the rulemaking proceeding, and we will fully consider them in the preparation of our final determination.

Comments should be as specific as possible. Please include sufficient information with your submission (such as scientific journal articles or other publications) to allow us to verify any scientific or commercial information you assert. Please note that submissions merely stating support for, or opposition to, the action under consideration without providing supporting information, although noted, will not be considered in making a determination, as section 4(b)(1)(A) of the Act directs that determinations as to whether any species is an endangered species or a threatened species must be made “solely on the basis of the best scientific and commercial data available.”

You may submit your comments and materials by one of the methods listed in ADDRESSES. We request that you send comments only by the methods described in ADDRESSES. You may also provide your comments through verbal testimony during the public hearing (see DATES, ADDRESSES, and Public Hearing in this document).

If you submit information via http://www.regulations.gov, your entire submission—including your personal identifying information—will be posted on the website. If your submission is made via a hardcopy that includes personal identifying information, you may request at the top of your document that we withhold this information from public review. However, we cannot guarantee that we will be able to do so. We will post all hardcopy submissions on http://www.regulations.gov.

Comments and materials we receive, as well as supporting documentation we used in preparing this proposed rule, will be available for public inspection on http://www.regulations.gov at Docket No. FWS-R4-ES-2018-0062.

Public Hearing

We have scheduled a public informational meeting and public hearing on our November 26, 2019, proposed rule to delist the Nashville crayfish (84 FR 65098). We will hold the public informational meeting and public hearing on the date and at the times listed above under Public informational meeting and public hearing in DATES. We are holding the public informational meeting and public hearing via the Zoom online video platform and via teleconference so that participants can attend remotely. For security purposes, registration is required. To listen and view the meeting and hearing via Zoom, listen to the meeting and hearing by telephone, or provide oral public comments at the public hearing by Zoom or telephone, you must register. For information on how to register, or if you encounter problems joining Zoom the day of the meeting, visit http://www.fws.gov/cookeville/. Registrants will receive the Zoom link and the telephone number for the public informational meeting and public hearing. If applicable, interested members of the public not familiar with the Zoom platform should view the Zoom video tutorials (https://support.zoom.us/hc/en-us/articles/206618765-Zoom-video-tutorials) prior to the public informational meeting and public hearing.

The public hearing will provide interested parties an opportunity to present verbal testimony (formal, oral comments) regarding the November 26, 2019, proposed rule to delist the Nashville crayfish (84 FR 65098). While the public informational meeting will be an opportunity for dialogue with the Service, the public hearing is not; it is a forum for accepting formal verbal testimony. In the event there is a large attendance, the time allotted for oral statements may be limited. Therefore, anyone wishing to make an oral statement at the public hearing for the record is encouraged to provide a prepared written copy of their statement to us through the Federal eRulemaking Portal, U.S. mail, or hand-delivery (see ADDRESSES, above). There are no limits on the length of written comments submitted to us. Anyone wishing to make an oral statement at the public hearing must register before the hearing (http://www.fws.gov/cookeville/). The use of a virtual public hearing is consistent with our regulations at 50 CFR 424.16(c)(3).

Reasonable Accommodation

The Service is committed to providing access to the public informational meeting and public hearing for all participants. Closed captioning will be available during the public informational meeting and public hearing. Further, a full audio and video recording and transcript of the public hearing will be posted online at http://www.fws.gov/cookeville/ after the hearing. Participants will also have access to live audio during the public informational meeting and public hearing via their telephone or computer speakers. Persons with disabilities requiring reasonable accommodations to participate in the meeting and/or hearing should contact the person listed under FOR FURTHER INFORMATION CONTACT at least 5 business days prior to the date of the meeting and hearing to help ensure availability. An accessible version of the Service's public informational meeting presentation will also be posted online at http://www.fws.gov/cookeville/ prior to the meeting and hearing (see DATES, above). See http://www.fws.gov/cookeville/ for more information about reasonable accommodation.

Authors

The primary authors of this document are the Ecological Services staff of the Southeast Regional Office, U.S. Fish and Wildlife Service.

Authority

The authority for this action is the Endangered Species Act of 1973, as amended (16 U.S.C. 1531 et seq.).

Aurelia Skipwith,
Director, U.S. Fish and Wildlife Service.

[FR Doc. 2020-20158 Filed 9-22-20; 8:45 am]

BILLING CODE 4333-15-P